DEPARTMENT OF ENERGY

Federal Energy Regulatory Commission

Combined Notice of Filings #1

Take notice that the Commission received the following electric rate filings:

Docket Numbers: ER11-4267-009; ER10-2682-009; ER11-113-010; ER11-4268-009; ER11-4269-010; ER11-4270-009; ER11-4694-006; ER12-1680-007.

Applicants: Algonquin Energy Services Inc., Algonquin Power Windsor Locks LLC, Algonquin Tinker Gen Co., Algonquin Northern Maine Gen Co., Sandy Ridge Wind, LLC, Granite State Electric Company, Minonk Wind, LLC, GSG 6, LLC.

Description: Triennial Market Power Update for the Northeast Region and Notice of Change in Status of Algonquin Energy Services Inc., et al.

Filed Date: 12/22/16.

Accession Number: 20161222-5588, 20161222-5590, 20161223-5327.

Comments Due: 5 p.m. ET 2/21/17.

Docket Numbers: ER15-2013-004, ER15-2020-003.

Applicants: Talen Energy Marketing, LLC, Talen Montana, LLC.

Description: Triennial Market Rate Based Update for Northwest Region of Talen Energy Marketing, LLC, et. al.

Filed Date: 12/22/16.

Accession Number: 20161222-5586.

Comments Due: 5 p.m. ET 2/21/17.

Docket Numbers: ER17-654-000.

Applicants: Arlington Valley Solar Energy II, LLC.

Description: § 205(d) Rate Filing: Market-Based Rate Tariff Revisions to be effective 12/24/2016.

Filed Date: 12/23/16.

Accession Number: 20161223-5245.

Comments Due: 5 p.m. ET 1/13/17.

Docket Numbers: ER17-655-000.

Applicants: Bluegrass Generation Company, L.L.C.

Description: § 205(d) Rate Filing: Market-Based Rate Tariff Revisions to be effective 12/24/2016.

Filed Date: 12/23/16.

Accession Number: 20161223-5254.

Comments Due: 5 p.m. ET 1/13/17.

Docket Numbers: ER17-656-000.

Applicants: Carville Energy LLC.

Description: § 205(d) Rate Filing: Market-Based Rate Tariff Revisions to be effective 12/24/2016.

Filed Date: 12/23/16.

Accession Number: 20161223-5263.

Comments Due: 5 p.m. ET 1/13/17.

Docket Numbers: ER17-657-000.

Applicants: Centinela Solar Energy, LLC.

Description: § 205(d) Rate Filing: Market-Based Rate Tariff Revisions to be effective 12/24/2016.

Filed Date: 12/23/16.

Accession Number: 20161223-5269.

Comments Due: 5 p.m. ET 1/13/17.

Docket Numbers: ER17-658-000.

Applicants: Cherokee County Cogeneration Partners, LLC.

Description: § 205(d) Rate Filing: Market-Based Rate Tariff Revisions to be effective 12/24/2016.

Filed Date: 12/23/16.

Accession Number: 20161223-5272.

Comments Due: 5 p.m. ET 1/13/17.

Docket Numbers: ER17-659-000.

Applicants: Columbia Energy LLC.

Description: § 205(d) Rate Filing: Market-Based Rate Tariff Revisions to be effective 12/24/2016.

Filed Date: 12/23/16.

Accession Number: 20161223-5273.

Comments Due: 5 p.m. ET 1/13/17.

Docket Numbers: ER17-660-000.

Applicants: Decatur Energy Center, LLC.

Description: § 205(d) Rate Filing: Market-Based Rate Tariff Revisions to be effective 12/24/2016.

Filed Date: 12/23/16.

Accession Number: 20161223-5274.

Comments Due: 5 p.m. ET 1/13/17.

Docket Numbers: ER17-661-000.

Applicants: DeSoto County Generating Company, LLC.

Description: § 205(d) Rate Filing: Market-Based Rate Tariff Revisions to be effective 12/24/2016.

Filed Date: 12/23/16.

Accession Number: 20161223-5275.

Comments Due: 5 p.m. ET 1/13/17.

Docket Numbers: ER17-662-000.

Applicants: Doswell Limited Partnership.

Description: § 205(d) Rate Filing: Market-Based Rate Tariff Revisions to be effective 12/24/2016.

Filed Date: 12/23/16.

Accession Number: 20161223-5282.

Comments Due: 5 p.m. ET 1/13/17.

Docket Numbers: ER17-663-000.

Applicants: Las Vegas Power Company, LLC.

Description: § 205(d) Rate Filing: Market-Based Rate Tariff Revisions to be effective 12/24/2016.

Filed Date: 12/23/16.

Accession Number: 20161223-5283.

Comments Due: 5 p.m. ET 1/13/17.

Docket Numbers: ER17-664-000.

Applicants: LS Power Marketing, LLC.

Description: § 205(d) Rate Filing: Market-Based Rate Tariff Revisions to be effective 12/24/2016.

Filed Date: 12/23/16.

Accession Number: 20161223-5284.

Comments Due: 5 p.m. ET 1/13/17.

Docket Numbers: ER17-665-000.

Applicants: LSP University Park, LLC.

Description: § 205(d) Rate Filing: Market-Based Rate Tariff Revisions to be effective 12/24/2016.

Filed Date: 12/23/16.

Accession Number: 20161223-5287.

Comments Due: 5 p.m. ET 1/13/17.

Docket Numbers: ER17-666-000.

Applicants: Mobile Energy LLC.

Description: § 205(d) Rate Filing: Market-Based Rate Tariff Revisions to be effective 12/24/2016.

Filed Date: 12/23/16.

Accession Number: 20161223-5292.

Comments Due: 5 p.m. ET 1/13/17.

Docket Numbers: ER17-667-000.

Applicants: Renaissance Power, L.L.C.

Description: § 205(d) Rate Filing: Market-Based Rate Tariff Revisions to be effective 12/24/2016.

Filed Date: 12/23/16.

Accession Number: 20161223-5295.

Comments Due: 5 p.m. ET 1/13/17.

Docket Numbers: ER17-668-000.

Applicants: Riverside Generating Company, L.L.C.

Description: § 205(d) Rate Filing: Market-Based Rate Tariff Revisions to be effective 12/24/2016.

Filed Date: 12/23/16.

Accession Number: 20161223-5299.

Comments Due: 5 p.m. ET 1/13/17.

Docket Numbers: ER17-669-000.

Applicants: Santa Rosa Energy Center, LLC.

Description: § 205(d) Rate Filing: Market-Based Rate Tariff Revisions to be effective 12/24/2016.

Filed Date: 12/23/16.

Accession Number: 20161223-5305.

Comments Due: 5 p.m. ET 1/13/17.

Docket Numbers: ER17-670-000.

Applicants: Seneca Generation, LLC.

Description: § 205(d) Rate Filing: Market-Based Rate Tariff Revisions to be effective 12/24/2016.

Filed Date: 12/23/16.

Accession Number: 20161223-5306.

Comments Due: 5 p.m. ET 1/13/17.

Docket Numbers: ER17-671-000.

Applicants: University Park Energy, LLC.

Description: § 205(d) Rate Filing: Market-Based Rate Tariff Revisions to be effective 12/24/2016.

Filed Date: 12/23/16.

Accession Number: 20161223-5307.

Comments Due: 5 p.m. ET 1/13/17.

Docket Numbers: ER17-672-000.

Applicants: Wallingford Energy LLC.

Description: § 205(d) Rate Filing: Market-Based Rate Tariff Revisions to be effective 12/24/2016.

Filed Date: 12/23/16.

Accession Number: 20161223-5308.

Comments Due: 5 p.m. ET 1/13/17.

Docket Numbers: ER17-673-000.

Applicants: West Deptford Energy, LLC.

Description: § 205(d) Rate Filing: Market-Based Rate Tariff Revisions to be effective 12/24/2016.

Filed Date: 12/23/16.

Accession Number: 20161223-5309.

Comments Due: 5 p.m. ET 1/13/17.

Docket Numbers: ER17-674-000.

Applicants: RRI Energy Services, LLC.

Description: Tariff Cancellation: Notice of Termination for FERC Electric Tariff, Original Volume No. 2 to be effective 12/23/2016.

Filed Date: 12/23/16.

Accession Number: 20161223-5313.

Comments Due: 5 p.m. ET 1/13/17.

Docket Numbers: ER17-675-000.

Applicants: Duke Energy Carolinas, LLC.

Description: § 205(d) Rate Filing: Amendment to SCPSA and CEPCI NITSA and Metering Agreements to be effective 1/1/2017.

Filed Date: 12/27/16.

Accession Number: 20161227-5035.

Comments Due: 5 p.m. ET 1/17/17.

Docket Numbers: ER17-676-000.

Applicants: Midcontinent Independent System Operator, Inc. Wolverine Power Supply Cooperative, Inc., Norton Rose Fulbright US LLP.

Description: § 205(d) Rate Filing: 2016-12-27_SA 2989 Wolverine-Spartan Renewable GIOA to be effective 12/30/2016.

Filed Date: 12/27/16.

Accession Number: 20161227-5038.

Comments Due: 5 p.m. ET 1/17/17.

Docket Numbers: ER17-677-000.

Applicants: Midcontinent Independent System Operator, Inc., Norton Rose Fulbright US LLP, Wolverine Power Supply Cooperative, Inc.

Description: § 205(d) Rate Filing: 2016-12-27_SA 2990 Wolverine-Spartan Renewable WDS to be effective 12/30/2016.

Filed Date: 12/27/16.

Accession Number: 20161227-5043.

Comments Due: 5 p.m. ET 1/17/17.

Docket Numbers: ER17-678-000.

Applicants: Midcontinent Independent System Operator, Inc., American Transmission Systems, Incorporated.

Description: § 205(d) Rate Filing: 2016-12-27_SA 2923 ATC-Quilt Block Wind Farm E&P (J395) Notice of Termination to be effective 12/28/2016.

Filed Date: 12/27/16.

Accession Number: 20161227-5049.

Comments Due: 5 p.m. ET 1/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2016.
Kimberly D. Bose,
Secretary.

[FR Doc. 2016-31840 Filed 12-30-16; 8:45 am]

BILLING CODE 6717-01-P